DEPARTMENT OF AGRICULTURE

Submission for OMB Review; Comment Request

May 16, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Airplane Pilot Qualifications and Approval Record, Helicopter Pilot Qualifications and Approval Record, Airplane Data Record, and Helicopter Data Record.

OMB Control Number: 0596-0015.

Summary of Collection: The Forest Service (FS) is the largest owner and operator of aircraft in the federal government outside of the Department of Defense. In conducting the Forest Service Land management mission they use 44 owned aircraft with 315 aircraft on loan to 18 States for fire suppression activities. The majority of FS flying is in support of wildland fire suppression. In addition to the agency owned aircraft, the FS contracts with approximately 400 vendors for aviation services used in resource protection and administrative projects. Contractor aircraft and pilots are used to place water and chemical retardants on fires, provide aerial delivery of firefighters to fires, perform reconnaissance, resource surveys, search for lost personnel, and fire detection. Contracts for such services established rigorous qualification requirements for pilots and specific condition/equipment/performance requirements for aircraft. The authority is granted under the Federal Aviation Administration Regulations in Title 14 (Aeronautics and Space) of the Code of Federal Regulations.

Need and Use of the Information: FS will collect information using FS forms to document the basis for approval of contract pilot and aircraft for use in specific FS aviation missions. The information collected from contract pilots in face to face meetings (such as name, age, pilots license number, number of hours flown in type of aircraft, etc.) is based on the length and type of contract but is usually done on a reoccurring annual basis. Without the information supplied on these forms, FS contracting officers and pilot/aircraft inspectors cannot determine if pilots and aircraft meet the detailed qualification, equipment, and condition requirements essential to safe, efficient accomplishment of FS specified flying missions and which are included in contract specifications.

Description of Respondents: Individuals or households; Business or other for-profit; State, Local or Tribal Government.

Number of Respondents: 2,700.

Frequency of Responses: Reporting: Annually.

Total Burden Hours: 1,226.

Forest Service

Title: 36 CFR Part 228, Subpart A—Locatable Minerals.

OMB Control Number: 0596-0022.

Summary of Collection: The United States Mining Law of 1982, as amended, governs the prospecting for and appropriation of metallic and most nonmetallic minerals on 192 millions acres of National Forest set up by proclamation from the public domain. It gives individuals the right to search for and extract valuable mineral deposits of locatable minerals and secure title to the lands involved. Recording that claim in the local courthouse and with the appropriate BLM State Office affords protection to the mining claimant from subsequent locators. A mining claimant is entitled to reasonable access to claim for further prospecting, mining or necessary related activities, subject to the other laws and applicable regulations. The purpose of the regulations at 36 CFR part 228, subpart A, is to set some specific rules and procedures through which use of the surface of National Forest System lands in connection with mineral operations authorized by the United States mining laws shall be conducted so as to minimize adverse environmental impacts on surface resources. The Forest Service (FS) will collect information using form FS 2800-5, Plan of Operations for Mining Activities on National Forest System Lands.

Need and Use of the Information: FS will collect information requirements for a Notice of Intent to include the name, address, and telephone number of the operator; the area involved; the nature of the proposed operations; the route of access to the area of operations and the method of transport. The information requirements for a Plan of Operations includes: The name and legal mailing address of the operators; a description of the type of operations proposed; a description of how it would be conducted; a description of the type and standard of existing/proposed roads/access route; a description of the means of transportation to be used; a description of the period during which the proposed activity will take place; and measures to meet the environmental protection requirements. The information requirements for a cessation of operation include: verification to maintain the structures, equipment and other facilities; expected reopening date; estimate of extended duration of operations; and maintenance of the site, structure, equipment and other facilities during nonoperating periods.

Description of Respondents: Business or other for-profit.

Number of Respondents: 737.

Frequency of Responses: Reporting: Other (approved for a given period).

Total Burden Hours: 4,661.

Forest Service

Title: Social and Cultural Structure of Private Forestry.

OMB Control Number: 0596-NEW.

Summary of Collection: Non-industrial Private Forest (NIPF) land represents about 95 percent of the private forest owners and 63 percent of the private forestland in the southern United States. NIPF lands provide many important public and private benefits including timber supply, forest health, watershed protection, biodiversity, aesthetics, wildlife, recreation, income, and investment. These benefits are enhanced when landowners receive professional forestry assistance, though very few landowners seek assistance or have written management plans for their forests. Forest Service along with a team of researchers from the Southern Research Station, and the College of Agricultural, Environmental, and Natural Sciences, Tuskegee University will conduct a study of minority forest landowners at three sites in the South.

Need and Use of the Information: This study will provide guidance for (a) reaching underserved landowners, (b) motivating a wider range of forest landowners to take action to meet their objectives, and (c) developing new survey questions for use in NIPF studies nationwide. The information collected during face-to-face interviews with forest landowners includes responses to “twenty statements test” to measure identity, identification of social networks utilized to acquire forest management information, demographic data, life history regarding land ownership and forest management. Learning how diverse forest landowners operate within social and cultural contexts will produce practical and theoretical benefits. The information gathered will contribute to scientific presentations and publications and will assist in developing new approaches for delivery of assistance to forest landowners.

Description of Respondents: Individuals or Households.

Number of Respondents: 100.

Frequency of Responses: Reporting: Annually.

Total Burden Hours: 200.

Charlene Parker,
Departmental Information Collection Clearance Officer.

[FR Doc. E8-11356 Filed 5-20-08; 8:45 am]

BILLING CODE 3410-11-P